DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 25, 2011. Address written comments to Statutory Import Programs Staff, Room 3720, U.S. Department of Commerce, Washington, DC 20230. Applications may be examined between 8:30 a.m. and 5 p.m. at the U.S. Department of Commerce in Room 3720.

Docket Number: 11-059. Applicant: University of Arkansas Office of Business Affairs, ADMN 321, 1 University of Arkansas, Favetteville, AR 72701-1201. Instrument: Electron Microscope. Manufacturer: JEOL, Ltd., Japan. Intended Use: The instrument will be used to study semiconductor materials, metals, ceramics, and biological tissues, to determine the influence of impurities on medicine efficiency, the kinetics of the growth of particles in a specific environment, the phase transformation of metals, and the study of other phenomena. Justification for Duty-Free Entry: There are no instruments of the same general category manufactured in the United States. Application accepted by Commissioner of Customs: September 15, 2011.

Docket Number: 11-062. Applicant: University of Buffalo, NYS Center for Excellence, 701 Ellicott St., HJKRI B4-321, Buffalo, NY 14203. Instrument: Electron Microscope. Manufacturer: FEI, Czech Republic. Intended Use: The instrument will be used to study the normal and pathological brains and peripheral nerves from animal models, assessing the degree and quality of myelination and neuronal differentiation under different experimental conditions. The objective of the experiments is to discover treatments and cures for Krabbe and other demyelinating disease. The experiments require 2-angstrom resolution in order to examine the specimens. Justification for Duty-Free Entry: There are no instruments of the same general category manufactured in the United States. Application accepted by Commissioner of Customs: September 7, 2011.

Docket Number: 11-063. Applicant: Mount Sinai School of Medicine, 1 Gustave L. Levy Place New York, NY 10029-6574. Instrument: Electron Microscope. Manufacturer: JEOL Ltd., Japan. Intended Use: The instrument will be used to image a wide range of biological assemblies composed of protein, nucleic acids, lipid and detergent. The studies will include structural studies of nucleic acid binding protein, viruses and membrane proteins, among other research. A 120kV electron microscope with an anticontaminator and specimen holder suitable for imaging biological samples at liquid nitrogen temperatures is required for the research. Justification for Duty-Free Entry: There are no instruments of the same general category manufactured in the United States. Application accepted by Commissioner of Customs: September 16 2011.

Docket Number: 11-064. Applicant: University of Wyoming, 1000 E University Ave., Laramie, WY 82071. Instrument: Electron Microscope. Manufacturer: FEI, Czech Republic. Intended Use: The instrument will be used to study solar energy and materials science research. There are no other instruments with the necessary resolution that are also capable of operation at very high pressures (chamber pressures approaching atmospheric pressures), which are essential for the research applications. There are also no microscopes manufactured in the United States that are capable of spatial resolution on the nanometer scale, and generation and analysis of electron-beam induced signals such as characteristic x-ray analysis, electron beam induced current measurements, and e-beam lithography. Justification for Duty-Free Entry: There are no instruments of the same general category manufactured in the United States. Application accepted by Commissioner of Customs: September 16, 2011.

Dated: September 29, 2011.
Gregory Campbell,
Director, IA Subsidies Enforcement Office.

[FR Doc. 2011-25737 Filed 10-4-11; 8:45 am]

BILLING CODE 3510-DS-P